DEPARTMENT OF DEFENSE

Office of Secretary of Defense

[DOD-2007-OS-0085]

Privacy Act of 1974; System of Records

AGENCY: National Reconnaissance Office.

ACTION: Notice to add a system of records.

SUMMARY: The National Reconnaissance Office proposes to add a system of records to its inventory of record systems subject to the Privacy Act of 1974 (5 U.S.C. 552a), as amended.

DATES: This proposed action will be effective without further notice on September 12, 2007 unless comments are received which result in a contrary determination.

ADDRESSES: Send comments to the FOIA/Privacy Official, National Reconnaissance Office, Information Access and Release, 14675 Lee Road, Chantilly, VA 20151-1715.

FOR FURTHER INFORMATION CONTACT: Contact the FOIA/Privacy Official at (703) 227-9128.

SUPPLEMENTARY INFORMATION: The National Reconnaissance Office systems of records notices subject to the Privacy Act of 1974 (5 U.S.C. 552a), as amended, have been published in the Federal Register and are available from the address above.

The proposed system report, as required by 5 U.S.C. 552a(r) of the Privacy Act of 1974, as amended, was submitted on August 6, 2007, to the House Committee on Oversight and Government Reform, the Senate Committee on Governmental Affairs, and the Office of Management and Budget (OMB) pursuant to paragraph 4c of Appendix I, “Federal Agency Responsibilities for Maintaining Records About Individuals,” to OMB Circular No. A-130, dated November 30, 2000.

Dated: August 7, 2007.
C.R. Choate,
Alternate OSD Federal Register Liaison Officer, Department of Defense.

QNRO-26

System name:

Grievance Complaints.

System location:

National Reconnaissance Office (NRO), Office of Equal Employment Opportunity and Diversity Management (OEEO&DM), 14675 Lee Road, Chantilly, VA 20151-1715.

Categories of individuals covered by the system:

Government civilian and military personnel.

Categories of records in the system:

Individual's name, Social Security Number (SSN), addresses, parent organization, work telephone number, office name, career service, grade, gender, type and status of complaint, complaint, resolution point, opened and closed date, and comments.

Authority for maintenance of the system:

5 U.S.C. 1205, 1206, 1302, 3301, 3302, 7105, 7512; 21 U.S.C. 812; 29 U.S.C. 201, et seq., amendment to the Fair Labor Standards Act; Age Discrimination and Employment Act; 29 U.S.C. 633a, the Rehabilitation Act of 1973 as amended; 29 U.S.C. 791 and 794a; 42 U.S.C. 2000e-17 et seq.; Public Law 93-259, the Fair Labor Standards Act; the Civil Service Reform Act; Public Law 95-454; Public Law 100-71; Equal Employment Opportunity Act of 1972; E.O. 9830, Amending the Civil Service Rules and Providing for Federal Personnel Administration, amended by Executive Orders 10577, 12106, 12107, and 12564; and E.O. 9397 (SSN).

Purpose(s):

To assist in processing, administration, and adjudication of discipline, grievances, complaints, appeals, litigation, and program evaluation.

Routine uses of records maintained in the system, including categories of users and the purposes of such uses:

In addition to those disclosures generally permitted under 5 U.S.C. 552a(b) of the Privacy Act, these records or information contained therein may specifically be disclosed outside the NRO as a routine use pursuant to 5 U.S.C. 552a(b)(3) as follows:

To disclose in response to a request for discovery or for appearance of a witness, information that is relevant to the subject matter involved in a pending judicial or administrative proceeding.

To disclose information on any source from which additional information is requested in the course of processing a grievance or appeal to the extent necessary to identify the individual, to inform the source of the purpose(s) of the request, and identify the type of information requested.

The records could be released to the employee's parent organization if the grievance enters the formal phase.

The DoD “Blanket Routines Uses” published at the beginning of the NRO compilation of systems of records notices apply to this system.

Policies and practices for storing, retrieving, accessing, retaining, and disposing of records in the system:

Storage:

Electronic storage media.

Retrievability:

Individual's name.

Safeguards:

Records are stored in a secure, gated facility, guards, badge, and password access protected. Access to and use of these records is limited to staff whose official duties require such access.

Retention and disposal:

Kept for 7 years after the case is closed and then they are destroyed.

System manager(s) and address:

NRO Grievance Officer, Grievance Office, National Reconnaissance Office, 14675 Lee Road, Chantilly, VA 20151-1715.

Notification procedure:

Individuals seeking to determine whether information about themselves is contained in this system of records should address written inquiries to the National Reconnaissance Office, Information Access and Release Center, 14675 Lee Road, Chantilly, VA 20151-1715.

Requests should contain individual's name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking access to information about themselves contained in this system of records should address written inquiries to the National Reconnaissance Office, Information Access and Release Center, 14675 Lee Road, Chantilly, VA 20151-1715.

Requests should contain individual's name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The NRO rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Information is supplied by the individual, by persons other than the individual, and other government agencies.

Exemptions claimed for the system:

None.

[FR Doc. E7-15771 Filed 8-10-07; 8:45 am]

BILLING CODE 5001-06-P